DEPARTMENT OF STATE

[Public Notice 5451]

30-Day Notice of Proposed Information Collection: DS-158, Contact Information and Work History for Nonimmigrant Visa Applicant; OMB Control Number 1405-0144

ACTION: Notice of request for public comment and submission to OMB of proposed collection of information.

SUMMARY: The Department of State has submitted the following information collection request to the Office of Management and Budget (OMB) for approval in accordance with the Paperwork Reduction Act of 1995.

• Title of Information Collection: Contact Information and Work History for Nonimmigrant Visa Applicant.

• OMB Control Number: 1405-0144.

• Type of Request: Extension of Currently Approved Collection.

• Originating Office: Bureau of Consular Affairs, Visa Office.

• Form Number: DS-158.

• Respondents: Applicants for F, J, and M nonimmigrant visas.

• Estimated Number of Respondents: 700,000 per year.

• Estimated Number of Responses: 700,000 per year.

• Average Hours per Response: 1 hour.

• Total Estimated Burden: 700,000 hours per year.

• Frequency: Once per respondent.

• Obligation to Respond: Required to Obtain or Retain Benefit.

DATES: Submit comments to the Office of Management and Budget (OMB) for up to 30 days from June 26, 2006.

ADDRESSES: Direct comments and questions to Katherine Astrich, the Department of State Desk Officer in the Office of Information and Regulatory Affairs at the Office of Management and Budget (OMB), who may be reached at (202) 395-4718. You may submit comments by any of the following methods:

• E-mail: Katherine_T._Astrich@omb.eop.gov. You must include the DS form number; information collection title, and OMB control number in the subject line of your message.

• Mail (paper, disk, or CD-ROM submissions): Office of Information and Regulatory Affairs, Office of Management and Budget, 725 17th Street, NW., Washington, DC 20503.

• Fax: (202) 395-6974.

FOR FURTHER INFORMATION CONTACT: You may obtain copied of the proposed informational collection and support documents form Andrea Lage of the Office of Visa Services, U.S. Department of State, 2401 E Street, NW., Washington, DC 20522, who may be reached at (202) 663-1399 or lageab@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection: This form collects contact information, current employment information, and previous work experience information from aliens applying for certain nonimmigrant visas to enter the United States.

Form DS-158 will be submitted to U.S. embassies and consulates overseas. A version of the form without personal data is available online.

Dated: June 9, 2006.
Stephen A Edson,
Deputy Assistant Secretary, Bureau of Consular Affairs, Department of State.

[FR Doc. E6-10016 Filed 6-23-06; 8:45 am]

BILLING CODE 4710-06-P